FEDERAL COMMUNICATIONS COMMISSION

47 CFR Part 73

[DA No. 00-187; MM Docket No. 99-305; RM-9537]

Radio Broadcasting Services; Alberton, MT

AGENCY: Federal Communications Commission.

ACTION: Final rule.

SUMMARY: This document rescinds the Report and Order in MM Docket No. 99-305 which allotted Channel 294C3 to Alberton, Montana, in response to a petition for rule making filed by Mountain West Broadcasting. See 65 FR 3152, January 20, 2000. Comments filed by petitioner withdrawing its proposal for Alberton were inadvertently overlooked at the time the Report and Order was adopted. Since Mountain West Broadcasting has withdrawn its interest and no supporting comments were received at the Commission we are withdrawing the Report and Order which allotted Channel 294C3 at Alberton, Montana. With this action, this proceeding is terminated.

EFFECTIVE DATE: February 16, 2000.

FOR FURTHER INFORMATION CONTACT: Kathleen Scheuerle, Mass Media Bureau, (202) 418-2180.

SUPPLEMENTARY INFORMATION: This is a summary of the Commission's Order in MM Docket No. 99-305, adopted February 1, 2000, and released February 4, 2000. The full text of this Commission decision is available for inspection and copying during normal business hours in the Commission's Reference Center, 445 Twelfth Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal regulations is amended as follows:

PART 73—[AMENDED]

1. The authority citation for Part 73 continues to read as follows:

Authority: 47 U.S.C. 154, 303, 334 and 336.

§ 73.202 [Amended]

2. Section 73.202(b), the Table of FM Allotments under Montana, is amended by removing Channel 294C3 at Alberton.

Federal Communications Commission.
John A. Karousos,
Chief, Allocations Branch, Policy and Rules Division, Mass Media Bureau.

[FR Doc. 00-3637 Filed 2-15-00; 8:45 am]

BILLING CODE 6712-01-P